DEPARTMENT OF THE INTERIOR

Fish and Wildlife Service

Notice of Availability, Draft Programmatic Environmental Assessment

AGENCY: Fish and Wildlife Service, Department of the Interior.

ACTION: Notice of availability.

SUMMARY: The U.S. Fish and Wildlife Service, on behalf of the Department of the Interior, and the Massachusetts Executive Office of Environmental Affairs, as Natural Resource Trustees, announces the release for public review of the Draft Programmatic Environmental Assessment (PEA) for the Massachusetts Housatonic River Watershed Restoration Program. The Draft PEA presents a restoration program featuring a mix of restoration approaches, including aquatic restoration, wildlife/terrestrial restoration, enhancement of recreational opportunities, and education/outreach initiatives. A mix of restoration approaches will allow the greatest degree of flexibility in the project selection process and will ensure the greatest environmental and socioeconomic benefits. This Draft PEA compares the preferred, blended restoration alternative with alternatives that focus on a single restoration approach, as well as with a no-action alternative in which no restoration is implemented with natural resource damages (NRD) funds. This Draft PEA is part of the restoration planning and implementation phase of the General Electric/Housatonic River Natural Resource Damage Assessment and Restoration (NRDAR) case.

DATES: Written comments must be submitted on or before December 1, 2005.

ADDRESSES: Requests for copies of the Draft PEA may be made to: U.S. Fish and Wildlife Service, Attention: Veronica Varela, New England Field Office, 70 Commercial Street, Suite 300, Concord, New Hampshire 03301.

Written comments or materials regarding the Draft PEA should be sent to the same address.

FOR FURTHER INFORMATION CONTACT: Veronica Varela, U.S. Fish and Wildlife Service, New England Field Office, 70 Commercial Street, Suite 300, Concord, New Hampshire 03301. Interested parties may also call 603-223-2541 or e-mail Veronica_Varela@fws.gov for further information.

SUPPLEMENTARY INFORMATION: During the period between the late 1930s and the late 1970s, the General Electric Company (GE) facility in Pittsfield, Massachusetts released polychlorinated biphenyls (PCBs), via the wastewater and storm systems associated with the facility, to the Housatonic River and Silver Lake in Pittsfield. In addition, a number of former oxbows were straightened and filled to alleviate flooding, and subsequently have been found to contain PCB-contaminated soils and fill. The release of PCBs adversely affected natural resources including fish, birds, amphibians, reptiles and their habitats, and impacted natural resource-based recreational uses.

On October 7, 1999, the U.S. Environmental Protection Agency; the U.S. Department of Justice; the Commonwealth of Massachusetts Department of Environmental Protection, the Office of the Attorney General, and the Executive Office of Environmental Affairs; the Connecticut Department of Environmental Protection and the Office of the Attorney General; the U.S. Department of the Interior; the National Oceanic and Atmospheric Administration; the City of Pittsfield, Massachusetts; the Pittsfield Economic Development Authority; and GE reached a comprehensive agreement concerning the cleanup of GE's Pittsfield facility, certain off-site properties, and the Housatonic River, and concerning compensation for NRD. The comprehensive agreement was lodged with the U.S. District Court of Massachusetts, Springfield, Massachusetts, and approved on October 27, 2000. Under this agreement, GE provided $15.5 million for compensatory restoration activities. Of this amount, $7.75 million (plus interest) will be managed to restore, rehabilitate, replace, or acquire the equivalent of injured natural resources and/or the services they provide to compensate for natural resources adversely affected by PCBs in the Massachusetts watershed of the Housatonic River. The other $7.75 million will be managed under a separate program for compensatory restoration in the Connecticut watershed of the Housatonic River. This Draft PEA examines alternatives for implementing a compensatory restoration program in the Massachusetts portion of the Housatonic River watershed; implementation alternatives in the Connecticut portion will be examined in a later document.

The proposed Preferred Alternative in the Draft PEA is a restoration program featuring a mix of restoration approaches, including aquatic restoration, wildlife/terrestrial restoration, enhancement of recreational opportunities, and education/outreach initiatives. A mix of restoration approaches will allow the greatest degree of flexibility in the project selection process and will ensure the greatest environmental and socioeconomic benefits. This Draft PEA compares the preferred, blended restoration alternative with alternatives that focus on a single restoration approach, as well as with a no-action alternative in which no restoration is implemented with NRD funds.

Interested members of the public are invited to review and comment on the Draft PEA. Copies of the Draft PEA are available for review at public libraries in the towns of Great Barrington, Lee, Lenox, Pittsfield, Sheffield, and Stockbridge, Massachusetts. Additionally, the Draft PEA will be available for review at the following Web site: http://www.ma-housatonicrestoration.org. Written comments will be considered and addressed in the Final PEA as part of the restoration planning process.

Author: The primary author of this notice is Veronica Varela, U.S. Fish and Wildlife Service, New England Field Office, 70 Commercial Street, Suite 300, Concord, New Hampshire 03301.

Authority: The authorities for this action are the NRDAR provisions under the Comprehensive Environmental Response, Compensation, and Liability Act of 1980 (CERCLA, as amended, 42 U.S.C. 9601 et seq.) and the Clean Water Act (CWA, 33 U.S.C. 1251-1376), which allow natural resource trustees to bring claims against responsible parties to recover monies and take action to restore, replace, or acquire the equivalent of natural resources that have been injured by hazardous substances; the CERCLA NRDA regulations (43 CFR Part 11) that guide the allocation and expenditure of NRD recoveries for restoration activities; and the National Environmental Policy Act (42 U.S.C. 4321-4347).

Dated: October 18, 2005.
Richard O. Bennett,
Acting Regional Director, Region 5, U.S. Fish and Wildlife Service, U.S. Department of the Interior, DOI Authorized Official.

[FR Doc. 05-21692 Filed 10-31-05; 8:45 am]

BILLING CODE 4310-55-P